NATIONAL SCIENCE FOUNDATION

Advisory Panel for Methods, Cross-Directorate, and Science and Society; Notice of Meeting

In accordance with the Federal Advisory Committee Act (Pub. L. 92-463, as amended), the National Science Foundation (NSF) announces the following meeting:

Name: Advisory Panel for Methods, Cross-Directorate, and Science and Society (1760).

Date/Time: April 6-7, 2000; 8:00 a.m.-5:00 p.m.

Place: National Science Foundation, 4201 Wilson Blvd., Room 390, Arlington, VA.

Type of Meeting: Closed.

Contact Person: Bonney H. Sheahan and Joseph L. Young, Program Directors for Cross Directorate Programs, National Science Foundation, 4201 Wilson Boulevard, Arlington, VA 22230. Telephone: (703) 306-1733.

Purpose of Meeting: To provide advice and recommendations concerning support of research proposals submitted to the NSF for financial support.

Agenda: To review and evaluate Professional Opportunities for Women in Research & Education POWRE proposals for Cross Disciplinary Activities as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: March 16, 2000.
Karen J. York,
Committee Management Officer.

[FR Doc. 00-6941 Filed 3-20-00; 8:45 am]

BILLING CODE 7555-01-M